DEPARTMENT OF HEALTH AND HUMAN SERVICES

Health Resources and Services Administration

National Forum for State and Territorial Chief Executives (National Forum) Program Cooperative Agreement

AGENCY: Health Resources and Services Administration (HRSA), HHS.

ACTION: Notice of Non-competitive One-Year Extension With Funds for the National Forum for State and Territorial Chief Executives (National Forum) Program Cooperative Agreement.

SUMMARY: HRSA will be providing a one-year extension with funds in the amount authorized in fiscal year (FY) 2010 to support activities that focus on cross-cutting publicly-funded health program integration and health access issues identified by the State and Territory governors and their senior health policy advisors, including addressing the needs of uninsured, underinsured and special needs populations, oral health, border health and health information technology as well as HRSA's overall strategic goals.

SUPPLEMENTARY INFORMATION:

Cooperative Agreement Recipient of Record: National Governors Association Center for Best Practices (NGA), Washington, DC.

Original Period of Support: April 1, 2008, to March 31, 2011.

Amount of Supplement Award: $160,000.

Authority: Sections 241 and 301 of the Public Health Service Act, as amended (42 U.S.C. 238J and 241 respectively).

CFDA Number: 93.224.

Justification for the Exception to Competition: The National Forum cooperative agreement provides a unique vehicle for HRSA to collaborate with the Nation's governors on their shared priorities, and provides opportunities through which governors can build on lessons others states have learned in addressing similar health policy challenges. A 1-year extension with funds will allow the National Forum to facilitate ongoing communication on emerging strategies addressing common priorities, public health policy, and governance issues affecting States and Territories thereby allowing HRSA to reevaluate the focus and implementation of this Program prior to the FY 2012 competition for the next 3-year project period. Further funding beyond March 31, 2012, will be competitively awarded in FY 2012.

FOR FURTHER INFORMATION CONTACT: Mark Pincus, Director, Office of Policy Analysis, HRSA, via e-mail: mpincus@hrsa.gov or via telephone: 301-443-5911.

Dated: March 23, 2011.
Mary K. Wakefield,
Administrator.

[FR Doc. 2011-7444 Filed 3-29-11; 8:45 am]

BILLING CODE 4165-15-P